DEPARTMENT OF ENERGY

[FE Docket No. 14-98-LNG]

SCT&E LNG, LLC; Amendment of Notice of Application for Long-Term, Multi-Contract Authorization To Export Liquefied Natural Gas to Non-Free Trade Agreement Countries

AGENCY: Office of Fossil Energy, DOE.

ACTION: Amended notice of application and extension of comment period.

SUMMARY: The Office of Fossil Energy (FE) of the Department of Energy (DOE) is amending a notice of application filed by SCT&E LNG, LLC (SCT&E LNG) on July 24, 2014, and published in the Federal Register on December 19, 2014 (Notice).¹ The amended notice adds two environmental documents to the record in the SCT&E LNG docket. It also extends the Public Comment Period, ending February 17, 2015, by 20 days, to March 12, 2015, to ensure that interested parties have sufficient opportunity to review the documents in filing any protests, motions to intervene, notices of intervention, or written comments in response to the Application.

¹ Dep't of Energy, SCT&E LNG, LLC: Application for Long-Term, Multi-Contract Authorization to Export Liquefied Natural Gas to Non-Free Trade Agreement Countries, 79 FR 75796 (Dec. 19, 2014).

DATES: The Public Comment Period, ending February 17, 2015, is extended by 20 days to March 12, 2015. Protests, motions to intervene or notices of intervention, as applicable, requests for additional procedures, and written comments are to be filed using procedures detailed in the Public Comment Procedures section of the Notice (79 FR 75796) no later than 4:30 p.m., Eastern time.

ADDRESSES: Interested persons may submit comments by any of the following methods:

Electronic Filing by Email

fergas@hq.doe.gov.

Regular Mail

U.S. Department of Energy (FE-34), Office of Oil and Gas Global Security and Supply, Office of Fossil Energy, P.O. Box 44375, Washington, DC 20026-4375.

Hand Delivery or Private Delivery Services

U.S. Department of Energy (FE-34), Office of Oil and Gas Global Security and Supply, Office of Fossil Energy, Forrestal Building, Room 3E-042, 1000 Independence Avenue SW., Washington, DC 20585.

FOR FURTHER INFORMATION CONTACT:

Larine Moore or Marc Talbert, U.S. Department of Energy (FE-34), Office of Oil and Gas Global Security and Supply, Office of Fossil Energy, Forrestal Building, Room 3E-042, 1000 Independence Avenue SW., Washington, DC 20585, (202) 586-9478; (202) 586-7991.

Cassandra Bernstein, U.S. Department of Energy, Office of the Assistant General Counsel for Electricity and Fossil Energy, Forrestal Building,

1000 Independence Avenue SW.,

Washington, DC 20585,

(202) 586-9793.

SUPPLEMENTARY INFORMATION: On December 19, 2014, DOE/FE gave notice of receipt of an application (Application), filed on July 24, 2014 (79 FR 75796). The Application, filed under section 3(a) of the Natural Gas Act (NGA), requests long-term, multi-contract authorization to export domestically produced liquefied natural gas (LNG) to any country with which the United States does not have a free trade agreement requiring national treatment for trade in natural gas and with which trade is not prohibited by U.S. law or policy (non-FTA countries). As set forth in the Notice, SCT&E LNG seeks authorization to export the LNG in a volume up to 12 million metric tons per annum, which SCT&E LNG states is equivalent to approximately 1.6 billion cubic feet (Bcf) per day of natural gas (or 584 Bcf per year). SCT&E LNG seeks authorization to export the LNG by vessel from its proposed LNG terminal, which SCT&E LNG intends to construct, own, and operate on Monkey Island in the Calcasieu Ship Channel in Cameron Parish, Louisiana.²

² Additional details can be found in SCT&E LNG's Application, posted on the DOE/FE Web site at: http://energy.gov/fe/downloads/scte-lng-llc-14-98-lng.

In the prior Notice, DOE/FE invited protests, motions to intervene, notices of intervention, and written comments on the Application during a 60-day Public Comment Period, which is currently scheduled to close no later than 4:30 p.m., Eastern time, February 17, 2015. After publication of the Notice, however, DOE/FE determined that it had inadvertently omitted two environmental documents from the record in the SCT&E LNG docket that potentially bear on SCT&E LNG's requested authorization. Therefore, DOE/FE is amending one section of the Notice, entitled “DOE/FE Evaluation,” to add the two documents identified below to the SCT&E LNG docket. Additionally, to provide interested parties with sufficient opportunity to review these documents in filing any protests, motions to intervene, notices of intervention, or written comments, DOE/FE is extending the comment period by 20 days. All other provisions and procedures of the Notice remain the same. The “DOE/FE Evaluation” section of the Notice is now amended to read as follows:

FDOE/FE Evaluation

The Application will be reviewed pursuant to section 3(a) of the NGA, 15 U.S.C. 717b(a), and DOE will consider any issues required by law or policy. To the extent determined to be relevant, these issues will include the domestic need for the natural gas proposed to be exported, the adequacy of domestic natural gas supply, U.S. energy security, and the cumulative impact of the requested authorization and any other LNG export application(s) previously approved on domestic natural gas supply and demand fundamentals. DOE may also consider other factors bearing on the public interest, including the impact of the proposed exports on the U.S. economy (including GDP, consumers, and industry), job creation, the U.S. balance of trade, and international considerations; and whether the authorization is consistent with DOE's policy of promoting competition in the marketplace by allowing commercial parties to freely negotiate their own trade arrangements. Additionally, DOE will consider the following environmental documents:

• Addendum to Environmental Review Documents Concerning Exports of Natural Gas From the United States, 79 FR 48132 (Aug. 15, 2014); ³ and

³ The Addendum and related documents are available at: http://energy.gov/fe/draft-addendum-environmental-review-documents-concerning-exports-natural-gas-united-states.

• Life Cycle Greenhouse Gas Perspective on Exporting Liquefied Natural Gas From the United States, 79 FR 32260 (June 4, 2014).⁴

⁴ The Life Cycle Greenhouse Gas Report is available at: http://energy.gov/fe/life-cycle-greenhouse-gas-perspective-exporting-liquefied-natural-gas-united-states.

Parties that may oppose this Application should address these issues in their comments and/or protests, as well as other issues deemed relevant to the Application.

The National Environmental Policy Act (NEPA), 42 U.S.C. § 4321 et seq., requires DOE to give appropriate consideration to the environmental effects of its proposed decisions. No final decision will be issued in this proceeding until DOE has met its environmental responsibilities.

Issued in Washington, DC, on February 10, 2015.
John A. Anderson,
Director, Office of Oil and Gas Global Security and Supply, Office of Oil and Natural Gas.

[FR Doc. 2015-03145 Filed 2-13-15; 8:45 am]

BILLING CODE 6450-01-P